DEPARTMENT OF DEFENSE

Office of the Secretary

[Docket ID: DoD-2024-OS-0027]

Request for Information for 2026 Department of Defense State Policy Priorities Impacting Service Members and Their Families; Response to Public Comments

AGENCY: Deputy Assistant Secretary of Defense for Military Community and Family Policy, Department of Defense (DoD).

ACTION: Request for information; response to public comments.

SUMMARY: On Tuesday, March 26, 2024, DoD published a request for information in the Federal Register that provided an opportunity for the public to submit issues that have an impact on Service members and their families where state governments are the primary agents for making positive change. Each year, DoD selects State Policy Priorities for states to consider that reduce barriers resulting from the transience and uncertainty of military life. The public submissions received will be considered by DoD in setting those priorities. For example, as a result of previous feedback provided by a non-profit educational research organization, DoD has educated states on the benefits of modifying their open enrollment policies to increase access to school options for military-connected children. This follow-up notice responds to the public comments received.

FOR FURTHER INFORMATION CONTACT: Ms. Geraldine Valentin-Smith, (703) 618-6907 (voice), geraldine.valentino-smith.civ@mail.mil (email), 4800 Mark Center Drive, Suite 14E08, Alexandria, Virginia 22350 (mailing address).

SUPPLEMENTARY INFORMATION: On Tuesday, March 26, 2024 (89 FR 20954), the DoD published a notice titled “Request for Information for 2026 DoD State Policy Priorities Impacting Service Members and Their Families.” Public comments were accepted for 30 days until April 25, 2024. Twenty public comments were received. The DoD responds to the comments as follows:

Seven comments were received which identified issues for potential inclusion as a State Policy Priority. We appreciate your thoughtful engagement and recommendations. We respond to the comments as follows:

• Bridging Support Systems During Permanent Change of Station (PCS) Transitions for Vulnerable Military Families. We recognize military families face significant disruptions in essential state support services during PCS moves. Implementing an advance enrollment system for state-run support programs, such as Medicaid and the Supplemental Nutrition Assistance Program, similar to successful models in educational settings, may affect the continuity of care and support for military families during PCS transitions.

• Enfranchising Military-Connected Voters. We agree military voters face significant challenges in participating in elections. Various states have differing rules regarding absentee ballot deadlines and procedures for curing ballot discrepancies, with no standardized approach specifically accommodating the unique circumstances of military voters. We commend states which have enhanced the fairness and inclusivity of the electoral process, reinforcing the democratic values that military personnel defend.

• Facilitating Guardianship Transfer for Military Families. We understand that military families with guardianship responsibilities face significant legal and bureaucratic hurdles when moving between states due to permanent changes of station. The Uniform Adult Guardianship and Protective Proceedings Jurisdiction Act is an approach to enabling a more seamless transfer of guardianship for military families between all states.

• Military Community Experience with Job Opportunity Scams. We share concern that military spouses are particularly vulnerable to job opportunity scams, which pose a significant threat to their financial security and well-being. No current state law or initiative requires specific protections or targeted initiatives to address the unique vulnerability of military spouses to job scams. However, states have begun addressing claim sharks who target veterans by offering veteran and military benefit services in exchange for financial compensation and other predatory practices.

• Military Family Agility and Children's Educational Success. We concur that full implementation of the Interstate Compact on Educational Opportunity for Military Children (the Compact) enhances educational continuity and fairness for military children. The Compact has been crucial in addressing educational challenges faced by military families when relocating. All states and the District of Columbia have adopted the Compact; however, discrepancies in implementation across states create unequal opportunities and support for these children.

• Paid Military Family Leave. We acknowledge the substantial role that employed military spouses play in maintaining the home front during activations and the reintegration period that follows. The current legislative landscape includes several states that have taken commendable steps toward supporting military families through paid family leave policies. These initiatives not only alleviate financial pressures but also contribute to the overall readiness and resilience of our forces.

• Partial Credit During Mid-Term Transfers. We continue to address academic disruptions faced by military children. Many sending schools do not award partial credit for coursework completed before a transfer, and receiving schools frequently do not accept such partial credits, forcing students to repeat entire courses upon a PCS move. States have begun implementing policies that require both sending and receiving schools to recognize and accept partial credits.

The Department will evaluate the seven issues independently for suitability, feasibility, desirability, acceptability, and sustainability.

One comment was received which related to an existing State Policy Priority:

• Creating a State Holiday for Month of the Military Child. Each year, the Department joins national, state, and local governments, schools, military serving organizations, companies, and private citizens in celebrating military children and the sacrifices they make during the month of April. There are more than 1.6 million military children who face many challenges and unique experiences as a result of their parents' service. This line of effort is part of the State Policy Priority for Purple Star School Programs.

Additionally, four comments were received which related to issues outside the criteria listed for consideration. The criteria include: States are primary responsible for resolving the problem; the solution should positively impact the quality of life of Service members and their families; should or positively contribute to readiness; should impact members of the military, recent veterans, and their family members; and for quality-of-life issues, the resolution should help eliminate a barrier caused by the dynamics of military life. We respond to the comments as follows:

• DoD-State Liaison Office Support to the Territories. We appreciate the comment that military members and families benefit from the Department's engagement with state legislative and executive branches to support military family readiness and quality of life. Within the limits of available resources, increased engagement with the governments of the insular areas of the United States may include connecting with other states and territories to share best practices and address common challenges and building relationships with key state policymakers responsible for defense issues.

• Establishment of a DoD-Specific Portable Medicaid Waiver for Military Children. Military children with special needs face substantial disruptions in continuity of care due to frequent relocations mandated by their parents' military service. While creation of a portable Medicaid waiver for military children is not within the purview of state government to resolve, other state policies do account for the mobility of military families with special needs. States have enacted improvements to existing Medicaid waivers for the provision of Home and Community-Based Services, allowing military families to retain their positions on waiting lists for this program despite a military-directed move out of the state. Additionally, states have begun modifying state education statutes to build upon existing Federal requirements to minimize delays and reduce barriers for highly-mobile students with special education needs.

• Inclusion of Military Spouse Attorneys in Licensing Portability Under the Servicemember Civil Relief Act. While the solution proposed is not within the purview of states to consider, the Department continues to engage with state bar examiners to facilitate military spouse admission, including the issuing of a license within 30 days with minimal documentation requirements.

• Improvements to the MyCAA Program. We appreciate feedback submitted regarding the MyCAA program indicating the desire for additional face-to-face options, online courses, and an expansion of curricula beyond health careers.

Eight comments were received which were not germane to the request for input and did not identify an issue for potential inclusion as a State Policy Priority. We respond to the comments as follows:

• Thank you for your advocacy for our military families. It is both valued and recognized. Thank you very much for your contributions.

Each fiscal year, the DoD considers numerous vital state policy issues, with the aim of selecting those that hold the most promise for positively impacting the lives of Service members and their families. It is within this competitive and discerning framework that we evaluate, research, and assess all proposed state policy solutions to resolve challenges for military families.

We are committed to a rigorous examination of these issues, among others. Our process is designed to ensure that we advance the most impactful and viable initiatives to support our military families effectively.

As always, our team at the Defense-State Liaison Office, who manage state government relations for the Office of the Secretary of Defense on personnel and readiness issues, stand ready to fully support state policymakers and the military community. Thank you once again for bringing these important issues to our attention.

Dated: August 1, 2024.
Aaron T. Siegel,
Alternate OSD Federal Register Liaison Officer, Department of Defense.

[FR Doc. 2024-17412 Filed 8-6-24; 8:45 am]

BILLING CODE 6001-FR-P